DEPARTMENT OF EDUCATION

[CFDA No. 84.345A]

Office of Postsecondary Education; Underground Railroad Educational and Cultural Program (URR)

ACTION: Correction; Notice correcting the Deadline for Intergovernmental Review date.

SUMMARY: We correct the Deadline for Intergovernmental Review in the notice published on May 13, 2005 (70 FR 25553).

SUPPLEMENTARY INFORMATION: On May 13, 2005, we published a notice in the Federal Register inviting applications for new awards for FY 2005 for the Underground Railroad Educational and Cultural Program. The date listed under Deadline for Intergovernmental Review was incorrect. The correct Deadline for Intergovernmental Review is August 12, 2005.

FOR FURTHER INFORMATION CONTACT: Beverly Baker, Fund for the Improvement of Postsecondary Education, U.S. Department of Education, 1990 K Street, NW., suite 6140, Washington, DC 20006-8544. Telephone: (202) 502-7503 or by e-mail: beverly.baker@ed.gov.

If you use a telecommunications device for the deaf (TDD), you may call the Federal Relay Service (FIRS) at 1-800-877-8339.

Individuals with disabilities may obtain this document in an alternative format (e.g., Braille, large print, audiotape, or computer diskette) on request to the program contact person listed in this section.

Electronic Access to This Document: You may view this document, as well as all other documents of this Department published in the Federal Register, in text or Adobe Portable Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

For additional program information call the FIPSE office (202) 502-7500 between the hours of 8 a.m. and 5 p.m., eastern time, Monday through Friday.

Note: The official version of this document is the document published in the Federal Register. Free Internet access to the official edition of the Federal Register and the Code of Federal Regulations is available on GPO Access at: http://www.gpoaccess.gov/nara/index.html.

Dated: May 31, 2005.
Sally L. Stroup,
Assistant Secretary for Postsecondary Education.

[FR Doc. 05-11099 Filed 6-2-05; 8:45 am]

BILLING CODE 4000-01-M